DEPARTMENT OF HOMELAND SECURITY

Federal Emergency Management Agency

Agency Information Collection Activities: Proposed Collection; Comment Request

ACTION: Notice; 30-day notice and request for comments; Reinstatement, with change, of a previously approved collection for which approval has expired, 1660-0054; FEMA Form 080-2, FEMA Form 080-3, FEMA Form 080-4, FEMA Form 080-5, FEMA Form 080-6, FEMA Form 080-7, FEMA Form 080-8, FEMA Form 080-10, and FEMA Form 080-12.

SUMMARY: The Federal Emergency Management Agency (FEMA) is submitting a request for review and approval of a collection of information under the emergency processing procedures in Office of Management and Budget (OMB) regulation 5 CFR 1320.13. FEMA is requesting that this information collection be approved by 12/01/2008. The approval will authorize FEMA to use the collection through 6/01/2009. FEMA plans to follow this emergency request with a request for a 3-year approval. The request will be processed under OMB's normal clearance procedures. To help us with the timely processing of the emergency and normal clearance submissions to OMB, FEMA invites the general public to comment on the proposed collection of information.

SUPPLEMENTARY INFORMATION: The authority for Assistance to Firefighters Grant Program (AFG) and Fire Prevention and Safety (FPS) is derived from the Federal Fire Protection and Control Act of 1974 (15 U.S.C. 2229 et seq.), as amended. The authority for Staffing for Adequate Fire and Emergency Response (SAFER) is derived from 15 U.S.C. 2201 et seq. This submission is necessary in order for DHS to effectively implement a competitive grant program and meet the fiscal deadlines.

Collection of Information:

Title: Assistance to Firefighters Grant Applications.

Type of Information Collection: Reinstatement, with change, of a previously approved collection for which approval has expired.

OMB Number: 1660-0054.

Abstract: Information sought under this submission will comprise the grant applications for AFG, FPS and SAFER. The information is necessary to assess the needs of the applicants as well as the benefits to be obtained from the use of funds.

Affected Public: Not-for-profit, State, Local and Tribal governments.

Number of Respondents: 64,050.

Estimated Time per Respondent: 3.03 hours.

Estimated Total Annual Burden Hours: 193,995 hours.

Estimated Cost: The estimated annual cost to the Federal Government is $6,127,441.

Frequency of Response: On occasion.

Comments: Written comments are solicited to (a) evaluate whether the reinstated data collection is necessary for the proper performance of the agency, including whether the information shall have practical utility; (b) evaluate the accuracy of the agency's estimate of the burden of the proposed information collection, including the validity of the methodology and assumptions used; (c) enhance the quality, utility, and clarity of the information to be collected; and (d) minimize the burden of the collection of information on those who are to respond, including through the use of appropriate automated, electronic, mechanical, or other technology, e.g., permitting electronic submission of responses. Submit comments to OMB within 30 days of the date of this notice. To ensure that FEMA is fully aware of any comments or concerns that you share with OMB, please provide us with a copy of your comments. FEMA will continue to accept comments from interested persons through November 17, 2008. Submit comments to the FEMA address listed in the FOR FURTHER INFORMATION CONTACT caption.

Interested persons are invited to submit written comments on the proposed information collection to the Office of Information and Regulatory Affairs, Attn: Desk Officer for the Department of Homeland Security, Federal Emergency Management Agency, Reinstatement, with change, of a previously approved collection for which approval has expired—Assistance to Firefighters Grant Applications, facsimile number (202) 395-6974.

FOR FURTHER INFORMATION CONTACT: Requests for additional information or copies of the information collection should be made to Director, Records Management Division, Office of Management, Federal Emergency Management Agency, 500 C Street, SW., Washington, DC 20472, Mail Drop Room 301, facsimile number (202) 646-3347, or at e-mail address FEMA-Information-Collections@dhs.gov.

Dated: September 11, 2008.
John A. Sharetts-Sullivan,
Director, Records Management Division, Office of Management, Federal Emergency Management Agency, Department of Homeland Security.

[FR Doc. E8-21770 Filed 9-16-08; 8:45 am]

BILLING CODE 4410-10-P